DEPARTMENT OF HOMELAND SECURITY

Federal Emergency Management Agency

[Docket ID FEMA-2013-0002; Internal Agency Docket No. FEMA-B-1305]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arkansas:
Saline | City of Benton (12-06-0842P) | The Honorable Dave Mattingly, Mayor, City of Benton, P.O. Box 607, Benton, AR 72018 | 114 South East Street, Benton, AR 72015 | http://www.rampp-team.com/lomrs.htm | April 22, 2013 | 050192
Saline | City of Bryant (12-06-0842P) | The Honorable Jill Dabbs, Mayor, City of Bryant, 210 Southwest 3rd Street, Bryant, AR 72022 | 210 Southwest 3rd Street, Bryant, AR 72022 | http://www.rampp-team.com/lomrs.htm | April 22, 2013 | 050308
Saline | Unincorporated areas of Saline County (12-06-0842P) | The Honorable Lanny Fite, Saline County Judge, Saline County Courthouse, 200 North Main Street, Room 117, Benton, AR 72015 | Saline County Courthouse, 200 North Main Street, Room 117, Benton, AR 72015 | http://www.rampp-team.com/lomrs.htm | April 22, 2013 | 050191
Louisiana:
Ascension | Unincorporated areas of Ascension Parish (11-06-4231P) | The Honorable Tommy Martinez, President, Ascension Parish, 208 East Railroad Avenue, Gonzales, LA 70737 | Ascension Parish President's Office, 208 East Railroad Avenue, Gonzales, LA 70737 | http://www.rampp-team.com/lomrs.htm | March 29, 2013 | 220013
Ascension | Unincorporated areas of Ascension Parish (12-06-1883P) | The Honorable Tommy Martinez, President, Ascension Parish, 208 East Railroad Avenue, Gonzales, LA 70737 | Ascension Parish President's Office, 208 East Railroad Avenue, Gonzales, LA 70737 | http://www.rampp-team.com/lomrs.htm | May 3, 2013 | 220013
Pennsylvania:
Montgomery | Township of Lower Moreland (13-03-0174X) | The Honorable Robert P. DeMartinis, President, Township of Lower Moreland Board of Commissioners, 640 Red Lion Road, Huntingdon Valley, PA 19006 | Lower Moreland Municipal Building, 640 Red Lion Road, Huntingdon Valley, PA 19006 | http://www.rampp-team.com/lomrs.htm | May 13, 2013 | 420702
Texas:
Bell | City of Killeen (12-06-0554P) | The Honorable Daniel A. Corbin, Mayor, City of Killeen, P.O. Box 1329, Killeen, TX 76541 | City Hall, 101 North College Street, Killeen, TX 76540 | http://www.rampp-team.com/lomrs.htm | April 22, 2013 | 480031
Bexar | City of San Antonio (11-06-2654P) | The Honorable Julian Castro, Mayor, City of San Antonio, 100 Military Plaza, San Antonio, TX 78205 | Municipal Plaza, 114 Commerce Street, 7th Floor, San Antonio, TX 78205 | http://www.rampp-team.com/lomrs.htm | May 13, 2013 | 480045
Bexar | City of San Antonio (12-06-3820P) | The Honorable Julian Castro, Mayor, City of San Antonio, 100 Military Plaza, San Antonio, TX 78205 | Municipal Plaza, 114 Commerce Street, 7th Floor, San Antonio, TX 78205 | http://www.rampp-team.com/lomrs.htm | May 13, 2013 | 480045
Bexar | Unincorporated areas of Bexar County (13-06-0093P) | The Honorable Nelson W. Wolff, Bexar County Judge, Paul Elizondo Tower, 101 West Nueva Street, 10th Floor, San Antonio, TX 78205 | Bexar County Department of Public Works, 233 North Pecos La Trinidad, Suite 420, San Antonio, TX 78207 | http://www.rampp-team.com/lomrs.htm | May 13, 2013 | 480035
Collin | City of Plano (12-06-0656P) | The Honorable Phil Dyer, Mayor, City of Plano, 1520 Avenue K, Plano, TX 75074 | City Hall, 1520 Avenue K, Plano, TX 75074 | http://www.rampp-team.com/lomrs.htm | April 26, 2013 | 480140
Harris | City of Pasadena (12-06-3062P) | The Honorable Johnny Isbell, Mayor, City of Pasadena, 1211 Southmore Avenue, Pasadena, TX 77502 | Public Library, 1201 Jeff Ginn Memorial Drive, Pasadena, TX 77502 | http://www.rampp-team.com/lomrs.htm | March 1, 2013 | 480307
Tarrant | City of Fort Worth (12-06-0224P) | The Honorable Betsy Price, Mayor, City of Fort Worth, 1000 Throckmorton Street, Fort Worth, TX 76102 | Department of Transportation and Public Works, 1000 Throckmorton Street, Fort Worth, TX 76102 | http://www.rampp-team.com/lomrs.htm | May 2, 2013 | 480596
Tarrant | City of Fort Worth (12-06-1018P) | The Honorable Betsy Price, Mayor, City of Fort Worth, 1000 Throckmorton Street, Fort Worth, TX 76102 | Department of Transportation and Public Works, 1000 Throckmorton Street, Fort Worth, TX 76102 | http://www.rampp-team.com/lomrs.htm | May 3, 2013 | 480596
Tarrant | City of North Richland Hills (12-06-2052P) | The Honorable T. Oscar Trevino, Jr., P.E., Mayor, City of North Richland Hills, 7301 Northeast Loop 820, North Richland Hills, TX 76180 | City Hall, 7301 Northeast Loop 820, North Richland Hills, TX 76180 | http://www.rampp-team.com/lomrs.htm | April 4, 2013 | 480607
Tarrant | City of Saginaw (12-06-0224P) | The Honorable Gary Brinkley, Mayor, City of Saginaw, 400 South Saginaw Boulevard, Saginaw, TX 76179 | Public Works and Community Development, 205 Brenda Lane, Saginaw, TX 76179 | http://www.rampp-team.com/lomrs.htm | May 2, 2013 | 480610
Williamson | City of Cedar Park (11-06-0027P) | The Honorable Bob Lemon, Mayor, City of Cedar Park, 600 North Bell Boulevard, Cedar Park, TX 78613 | Planning and Zoning Office, 600 North Bell Boulevard, Cedar Park, TX 78613 | http://www.rampp-team.com/lomrs.htm | May 3, 2013 | 481282
Williamson | City of Leander (11-06-0027P) | The Honorable Chris Fielder, Mayor, City of Leander, 200 West Willis Street, Leander, TX 78641 | City Hall, 200 West Willis Street, Leander, TX 78641 | http://www.rampp-team.com/lomrs.htm | May 3, 2013 | 481536
Williamson | Unincorporated areas of Williamson County (11-06-0027P) | The Honorable Dan A. Gattis, Williamson County Judge, 710 Main Street, Suite 101, Georgetown, TX 78626 | Williamson County Courthouse, 710 Main Street, Georgetown, TX 78626 | http://www.rampp-team.com/lomrs.htm | May 3, 2013 | 481079
Virginia:
Augusta | City of Waynesboro (12-03-1604P) | The Honorable Bruce E. Allen, Mayor, City of Waynesboro, 503 West Main Street, Suite 210, Waynesboro, VA 22980 | City Hall, Charles Yancey Municipal Building, 503 West Main Street, Waynesboro, VA 22980 | http://www.rampp-team.com/lomrs.htm | March 4, 2013 | 515532
Augusta | Unincorporated areas of Augusta County (12-03-1604P) | The Honorable Tracy C. Pyles, Jr., Chairman, Augusta County Board of Supervisors, 18 Government Center Lane, Verona, VA 24482 | Augusta County Community Development Office, 18 Government Center Lane, Verona, VA 24482 | http://www.rampp-team.com/lomrs.htm | March 4, 2013 | 510013
Loudoun | Town of Purcellville (12-03-0984P) | The Honorable Robert W. Lazaro, Jr., Mayor, Town of Purcellville, 221 South Nursery Avenue, Purcellville, VA 20132 | Town Hall, 221 South Nursery Avenue, Purcellville, VA 20132 | http://www.rampp-team.com/lomrs.htm | March 18, 2013 | 510231
Loudoun | Unincorporated areas of Loudoun County (12-03-0984P) | The Honorable Scott K. York, Chairman-at-Large, Loudoun County Board of Supervisors, 1 Harrison Street Southeast, 5th Floor, Mailstop 1, Leesburg, VA 20175 | Loudoun County Building and Development Department, 1 Harrison Street Southeast, Leesburg, VA 20175 | http://www.rampp-team.com/lomrs.htm | March 18, 2013 | 510090

(Catalog of Federal Domestic Assistance No. 97.022, “Flood Insurance.”)

Roy Wright,
Deputy Associate Administrator for Mitigation, Department of Homeland Security, Federal Emergency Management Agency.

[FR Doc. 2013-05188 Filed 3-5-13; 8:45 am]

BILLING CODE 9110-12-P